DEPARTMENT OF TRANSPORTATION

Federal Aviation Administration

[Docket No. 2023-1859]

Agency Information Collection Activities: Requests for Comments; Renewed Approval of Information Collection: Safe Disposition of Life-Limited Aircraft Parts

AGENCY: Federal Aviation Administration (FAA), DOT.

ACTION: Notice and request for comments.

SUMMARY: In accordance with the Paperwork Reduction Act of 1995, FAA invites public comments about our intention to request the Office of Management and Budget (OMB) approval to renew an information collection. The collection involves maintaining and recording “the status of life-limited parts of each airframe, engine, propeller, rotor, and appliance. The information to be collected is necessary for maintaining and recording that the part is airworthy.

DATES: Written comments should be submitted by May 13, 2024.

ADDRESSES: Please send written comments:

By Electronic Docket: www.regulations.gov (Enter docket number into search field).

FOR FURTHER INFORMATION CONTACT: Randy.A.Shafer by email at: Randy.A.Shafer@faa.gov; phone: 217-971-8378.

SUPPLEMENTARY INFORMATION: Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information. The agency will summarize and/or include your comments in the request for OMB's clearance of this information collection.

OMB Control Number: 2120-0665.

Title: Safe Disposition of Life-Limited Aircraft Parts.

Form Numbers: N/A.

Type of Review: Renewal of an Information Collection.

Background: The FAA has found life-limited parts that exceeded their life-limits installed on type-certificated products during accident investigations and in routine surveillance. Although such installation of life-limited parts violates existing FAA regulations, concerns have arisen regarding the disposition of these life-limited parts when they have reached their life limits. Concerns over the use of life-limited aircraft parts led Congress to pass a law requiring the safe disposition of these parts. The Wendell H. Ford Investment and Reform Act for the 21st Century (Pub. L. 106-181), added section 44725 to title 49, United States Code.

Current Requirements: The type design of an aircraft, aircraft engine, or propeller includes the Instructions for Continued Airworthiness (ICA), which includes the Airworthiness Limitations that describe life limits for parts installed on the product. See, for instance, 14 CFR 21.3(c) and 21.50. In order for an aviation product to comply with its type design, the life-limited parts installed on it must fall within the acceptable ranges described in the Airworthiness Limitations section of the Instructions for Continued Airworthiness. For this reason, installation of a life-limited part after the mandatory replacement time has been reached would be a violation of the maintenance regulations. Section 43.13(b) requires that maintenance work be completed so that the product worked on “will be at least equal to its original or properly altered condition. * * *” The product is not at least equal to its original or properly altered condition if a life-limited part has reached or exceeded its life limit. Existing regulations require that specific markings be placed on all life-limited parts at the time of manufacture. This includes permanently marking the part with a part number (or equivalent) and a serial number (or equivalent). See 14 CFR 45.14. Persons who install parts must have adequate information to determine a part's current life status. In particular, documentation problems may mislead an installer concerning the life remaining for a life-limited part. This rule further provides for the data needs of subsequent installers to ensure they know the life remaining on a part and prevent the part being used beyond its life limit. Existing regulations provide for records on life-limited parts that are installed on aircraft. The regulations require that each owner or operator under § 91.417(a)(2)(ii) and each certificate holder under § 121.380(a)(2)(iii) or § 135.439(a)(2)(ii), maintain records showing “the current status of life-limited parts of each airframe, engine, propeller, rotor, and appliance.” These regulations do not govern the disposition of the part when it is removed from the aircraft. If the part is intended to be reinstalled, however, a record of the life status of the part will be needed at the time of reinstallation to show that the part is within its life limit and to create the required record under §§ 91.417(a)(2)(ii), 121.380(a)(2)(iii), or 135.439(a)(2)(ii), as applicable. Therefore, when a life-limited part is removed from an aircraft and that part is intended to be reinstalled in an aircraft, industry practice is to make a record of the part's status at the time of removal. Repair stations, air carriers, and fixed base operators (FBO's) have systems in place to keep accurate records of such parts to ensure that they can reinstall the parts and have the required records to show that the part is airworthy. If the part is not intended to be reinstalled, however, under existing regulations and practice there is no record required or routinely made when a part is removed from an aircraft. The part may be at the end of its life limit and not eligible for installation. Or the part may not have reached the end of its life limit but is so close that reinstallation would not be practicable. In these cases, industry practices vary. For instance, the part might be put in a bin and later sold as scrap metal, it might be used as a training aid, or it might be mutilated. This renewal of the OMB control action requires the continued information collection.

Respondents: 8,000.

Frequency: As identified in previous rulemaking proposals for an annual frequency of information collection requirements is 100,000 procedures.

Estimated Average Burden per Response: 30 minutes per procedure.

Estimated Total Annual Burden: As identified in previous rule making estimates for this information collection the FAA refined its estimate of annual burden and has determined that there is no more than a minimal paperwork burden on any respondent for the record keeping and reporting requirements of 30 minutes duration, at $54 per hour per procedure.

Issued in Washington, DC, on March 11, 2024.
David A. Hoyng,
Aviation Safety, Flight Standards Office of Safety Standards, Aircraft Maintenance Division (FS300).

[FR Doc. 2024-05454 Filed 3-13-24; 8:45 am]

BILLING CODE 4910-13-P